DEPARTMENT OF COMMERCE

National Oceanic and Atmospheric Administration

RIN 0648-XX05

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a web based meeting of the Red Drum Special Working Group.

DATES: The webinar meeting will convene at 10 a.m. Eastern time on Tuesday, July 13, 2010 and conclude by 2 p.m.

ADDRESSES: The webinar will be accessible via internet. To participate, you must register for the webinar on the Gulf of Mexico's website. Directions on how to register will be posted one week prior to the webinar.

Council address: Gulf of Mexico Fishery Management Council, 2203 N. Lois Avenue, Suite 1100, Tampa, FL 33607.

FOR FURTHER INFORMATION CONTACT: Dr. Karen Burns, Ecosystem Management Specialist; Gulf of Mexico Fishery Management Council; telephone: (813) 348-1630.

SUPPLEMENTARY INFORMATION: The Special Red Drum Working Group will meet to review red drum data and discuss whether an acceptable biological catch can be determined for red drum in state and federal waters based on currently available data.

Copies of the agenda and other related materials can be obtained by calling (813) 348-1630.

Although other non-emergency issues not on the agenda may come before the Red Drum Special Working Group for discussion, in accordance with the Magnuson-Stevens Fishery Conservation and Management Act (Magnuson-Stevens Act), those issues may not be the subject of formal action during this meeting. Actions of the Working Group will be restricted to those issues specifically identified in the agenda and any issues arising after publication of this notice that require emergency action under Section 305(c) of the Magnuson-Stevens Act, provided the public has been notified of the Council's intent to take action to address the emergency.

Special Accommodations

This webinar is accessible to people with disabilities. For assistance with any of our webinars contact Tina O'Hern at the Council (see ADDRESSES) at least 5 working days prior to the webinar.

Dated: June 17, 2010.
Tracey L. Thompson,
Acting Director, Office of Sustainable Fisheries, National Marine Fisheries Service.

[FR Doc. 2010-15109 Filed 6-22-10; 8:45 am]

BILLING CODE 3510-22-S